EXPORT-IMPORT BANK

Advisory Committee of the Export-Import Bank of the United States (Ex-Im Bank); Notice of Open Meeting

SUMMARY: The Advisory Committee was established by Public Law 98-181, November 30, 1983, to advise the Export-Import Bank on its programs and to provide comments for inclusion in the reports of the Export-Import Bank of the United States to Congress.

Time and Place: Wednesday, December 18, 2013 from 9:30 a.m.-1:30 p.m. A break for lunch will be at the expense of the attendee. Security processing will be necessary for reentry into the building. The meeting will be held at Ex-Im Bank in the Main Conference Room 321, 811 Vermont Avenue NW., Washington, DC 20571.

Agenda: Agenda items include a briefing for the Advisory Committee members on Bank challenges for 2014, a discussion of the Advisory members roles and responsibilities of an Advisory Committee member, and an ethics briefing.

Public Participation: The meeting will be open to public participation, and the last 10 minutes will be set aside for oral questions or comments. Members of the public may also file written statement(s) before or after the meeting. If you plan to attend, a photo ID must be presented at the guard's desk as part of the clearance process into the building, you may contact Richard Thelen at richard.thelen@exim.gov to be placed on an attendee list. If any person wishes auxiliary aids (such as a sign language interpreter) or other special accommodations, please email Richard Thelen at richard.thelen@exim.gov prior to December 11, 2013.

Members of the Press: For members of the Press planning to attend the meeting, a photo ID must be presented at the guard's desk as part of the clearance process into the building please email Jamie Radice at jamie.radice@exim.gov to be placed on an attendee list.

FOR FURTHER INFORMATION CONTACT: Richard Thelen, 811 Vermont Avenue NW., Washington, DC 20571, (202) 565-3515.

Cristopolis Dieguez,
Program Specialist, Office of the General Counsel.

[FR Doc. 2013-29233 Filed 12-6-13; 8:45 am]

BILLING CODE 6690-01-P